COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add product(s) to the Procurement List that will be furnished by nonprofit agencies employing persons who are blind or have other severe disabilities, and deletes product(s) previously furnished by such agencies.

DATES: Comments must be received on or before: June 20, 2021.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

MR 863—Lint Roller

MR 864—Lint Roller Refill

Designated Source of Supply: Alphapointe, Kansas City, MO

NSN(s)—Product Name(s): MR 11480—Dust Remover, Compressed Gas, 10 oz

Designated Source of Supply: The Lighthouse for the Blind, St. Louis, MO

Mandatory For: The requirements of military commissaries and exchanges in accordance with the 41 CFR 51-6.4

Contracting Activity: Military Resale-Defense Commissary Agency

Distribution: C-List

Deletions

The following product(s) are proposed for deletion from the Procurement List:

Product(s)

NSN(s)—Product Name(s):

8415-01-515-4289—Cover, Advanced Combat Helmet System (ACH), w/o Communications Flap, Arctic White, Sm/Med

8415-01-515-4290—Cover, Advanced Combat Helmet System (ACH), w/o Communications Flap, Arctic White, Lg/XLg

Designated Source of Supply: Mount Rogers Community Services Board, Wytheville, VA

Contracting Activity: DLA TROOP SUPPORT, PHILADELPHIA, PA

NSN(s)—Product Name(s): 7520-01-484-5254—Pen, Ball Point, Retractable, Ergonomic, MD Executive Grip, Black Barrel, Black Ink, Medium Point

Designated Source of Supply: Industries for the Blind and Visually Impaired, Inc., West Allis, WI

Contracting Activity: GSA/FAS ADMIN SVCS ACQUISITION BR(2, NEW YORK, NY

NSN(s)—Product Name(s):

8455-01-645-2728—Neck Lanyard, Cord Style, J-Hook, Tan, 36″ x .25″

8455-01-645-2731—Neck Lanyard, Strap Style, J-Hook, Tan, 36″ x .75″

Mandatory Source of Supply: West Texas Lighthouse for the Blind, San Angelo, TX

Contracting Activity: GSA/FSS GREATER SOUTHWEST ACQUISITI, FORT WORTH, TX

NSN(s)—Product Name(s): 2640-00-052-6724—Repair Kit, Puncture

Contracting Activity: DLA LAND AND MARITIME, COLUMBUS, OH

Michael R. Jurkowski,
Deputy Director, Business Operations.

[FR Doc. 2021-10803 Filed 5-20-21; 8:45 am]

BILLING CODE 6353-01-P